DEPARTMENT OF AGRICULTURE

Forest Service

Public Meetings of the Black Hills National Forest Advisory Board

AGENCY: Forest Service, USDA.

ACTION: Notice of meeting.

SUMMARY: The Black Hills National Forest Advisory Board (NFAB) will hold a field-trip meeting to become informed about Black Hills Forest issues as they relate to Forest Service Chief Dale Bosworth's four priorities: Catastrophic fire; invasive species; loss of open space; and unregulated off-road vehicle management. The meeting is open, and members of the public may attend any part of the meeting but are advised that the agenda involves off-highway travel with numerous stops between Rapid City and Sturgis, SD. The day will include travel on roads requiring vehicles with high undercarriage clearance, and members of the public will need to provide their own transportation and food. Those planning to attend should call Gwen Ernst-Ulrich at (605) 673-9209 by the close of business on Monday, August 18, 2003.

DATES: Wednesday, August 20, 2003 from 8 a.m. to 5 p.m.

ADDRESSES: Meet in the Rapid City Civic Center west parking lot, 444 Mt. Rushmore Rd., Rapid City, SD.

FOR FURTHER INFORMATION CONTACT: Frank Carroll, Black Hills National Forest, 25041 North Highway 16, Custer, SD, 57730, (605) 673-9200.

Dated: August 8, 2003.
John C. Twiss,
Black Hills National Forest Supervisor.

[FR Doc. 03-20702 Filed 8-13-03; 8:45 am]

BILLING CODE 3410-11-M